DEPARTMENT OF AGRICULTURE

Forest Service

El Dorado County Resource Advisory Committee

AGENCY: Forest Service, USDA.

ACTION: Notice of meeting.

SUMMARY: The El Dorado County Resource Advisory Committee will meet in Placerville, California. The committee is meeting as authorized under the Secure Rural Schools and Community Self-Determination Act (Pub. L. 110-343) and in compliance with the Federal Advisory Committee Act. The RAC will prioritize a list of projects for funding in FY 2011 and FY 2012. The RAC may also be voting to recommend projects for funding.

DATES: The meeting will be held on May 23, 2011 beginning at 6 p.m..

ADDRESSES: The meeting will be held at the El Dorado Center of Folsom Lake College, Community Room, 6699 Campus Drive, Placerville, CA 95667.

Written comments should be sent to Frank Mosbacher; Forest Supervisor's Office; 100 Forni Road; Placerville, CA 95667. Comments may also be sent via e-mail to fmosbacher@fs.fed.us, or via facsimile to 530-621-5297.

All comments, including names and addresses when provided, are placed in the record and are available for public inspection and copying. The public may inspect comments received at 100 Forni Road; Placerville, CA 95667. Visitors are encouraged to call ahead to 530-622-5061 to facilitate entry into the building.

FOR FURTHER INFORMATION CONTACT: Frank Mosbacher, Public Affairs Officer, Eldorado National Forest Supervisors Office, (530) 621-5268. Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: The RAC will prioritize a list of projects for funding in FY 2011 and FY 2012. The RAC may also be voting to recommend projects for funding. More information will be posted on the Eldorado National Forest Web site at http://www.fs.fed.us/r5/eldorado. A public comment opportunity will be made available following the business activity. Future meetings will have a formal public input period for those following the yet to be developed public input process.

Dated: April 27, 2011.
Frank Mosbacher,
Acting Forest Supervisor.

[FR Doc. 2011-10695 Filed 5-2-11; 8:45 am]

BILLING CODE 3410-11-P